OFFICE OF SCIENCE AND TECHNOLOGY POLICY

Nanotechnology-Related Public Webinars

AGENCY: National Nanotechnology Coordination Office, Office of Science and Technology Policy.

ACTION: Notice of public webinars.

SUMMARY: The National Nanotechnology Coordination Office (NNCO), on behalf of the Nanoscale Science, Engineering, and Technology (NSET) Subcommittee of the Committee on Technology, National Science and Technology Council (NSTC), will hold webinars periodically to share information with the general public and the nanotechnology research and development community. Topics covered may include announcements of new National Nanotechnology Initiative activities, discussions of technical subjects, introductions to resources available for specific areas such as education or sensors development, or other areas of potential interest to the nanotechnology community. The first webinar will be held June 25, 2015, to promote resources available on the newly developed Sensors Nanotechnology Signature Initiative (NSI) Web Portal (www.nano.gov/SensorsNSIPortal).

DATES: The NNCO will hold multiple webinars between the publication of this Notice and December 31, 2015. The first webinar will be held on June 25, 2015, from 12 p.m. to 1 p.m. EDT.

ADDRESSES: These free, web-based events are open to the public. For current information about the webinars, please visit www.nano.gov/PublicWebinars. Many webinars will be broadcast via AdobeConnect, which requires the installation of a free plug-in on a computer or of a free app on a mobile device.

Submitting Questions: Some webinars may include question-and-answer segments in which questions of interest may be submitted to webinar@nnco.nano.gov beginning one week prior to the event through the close of the webinar. During the question-and-answer segments of the webinars, submitted questions will be considered in the order received and may be posted on the NNI Web site (www.nano.gov). A moderator will identify relevant questions and pose them to the speaker(s). Due to time constraints, not all questions may be addressed during the webinars. The moderator reserves the right to group similar questions and to skip questions, as appropriate. The Public Webinar page on nano.gov (www.nano.gov/PublicWebinars) will indicate which webinars will include question-and-answer segments.

Registration: Registration is required for every webinar and is on a first-come, first-served basis. Registration will open approximately two weeks prior to each event and will be capped at 200 participants or as space limitations dictate. Individuals planning to attend the webinar can find registration information at www.nano.gov/PublicWebinars.

FOR FURTHER INFORMATION CONTACT: Stacey Standridge, 703-292-8103, sstandridge@nnco.nano.gov.

Cristin Dorgelo,
Chief of Staff.

[FR Doc. 2015-13178 Filed 6-2-15; 8:45 am]

BILLING CODE 3270-F5-P